DEPARTMENT OF JUSTICE

[OMB Number 1103-0119

Agency Information Collection Activities; Proposed eCollection eComments Requested; Reinstatement Without Change to a Previously Approved Collection; U.S. Department of Justice Self Reportable Activities

AGENCY: Justice Management Division, Department of Justice.

ACTION: 30-Day notice.

SUMMARY: The Justice Management Division, Department of Justice (DOJ), will be submitting the following information collection request to the Office of Management and Budget (OMB) for review and approval in accordance with the Paperwork Reduction Act of 1995.

DATES: Comments are encouraged and will be accepted for 30 days until August 6, 2025.

FOR FURTHER INFORMATION CONTACT: If you have comments especially on the estimated public burden or associated response time, suggestions, or need a copy of the proposed information collection instrument with instructions or additional information, please contact: Karen Daniels, Security and Emergency Planning Staff, 145 N Street NE, Suite 2W, (202) 514-2351, karen.daniels@usdoj.gov.

SUPPLEMENTARY INFORMATION: The proposed information collection was previously published in the Federal Register on May 1, 2025, 90 FR 18709, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1103-0119. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Reinstatement of a previously approved collection.

2. Title of the Form/Collection: US Department of Justice Self Reportable Activities.

3. Agency form number, if any, and the applicable component of the Department of Justice sponsoring the collection: OMB #1103-0119.

4. Affected public who will be asked or required to respond, as well as a brief abstract: Affected Public Federal Government. Individuals who are contractors for the Department of Justice or who are processed for access to classified information by the Department of Justice..

Abstract: Self-reporting requirements set forth in the Department of Justice (DOJ) Policy Statement 1700.04, Department Personnel Security Reporting Requirements, issued April 18, 2018, apply to non-federal employee personnel affiliated with the DOJ. The policy contains reporting requirements that are applicable to the entire DOJ workforce as well as reporting requirements that apply only to personnel occupying a national security position or who have access to classified information. The requirements relating to national security are mandated by the Director of National Intelligence as the Security Executive Agent. The majority of the reports relate to the submitter's personal conduct and activities. There is one form for personnel to submit information on other personnel, consistent with government-wide reporting requirements. This collection request seeks approval for contractors and other non-federal employees who are processed for access to classified information to utilize the Department's automated reporting system called iReport, or, for the small population with no access to the IT system, to utilize PDF fillable forms to report the required information. The Security and Emergency Planning Staff, and other Department Security Offices, will use the reported information to determine the submitter's continued fitness for employment at the Department of Justice or continued eligibility for access to national security information. The Department security offices for each agency component will review, evaluate, and adjudicate the information received.

5. Obligation to Respond: Department-wide population covered by the requirement to self-report information in the forms listed in Sections 2a and 2b is estimated at 57,744. It is estimated that only three percent (1,732) will actually need to self-report. Department-wide population covered by the requirement to report information in the forms listed in Sections 2c through 2l is estimated to be 604. Amount of time estimated for an average reported is less than ten minutes.

6. Total Estimated Number of Respondents: 35,000.

7. Estimated Time per Respondent: 10 minutes.

8. Frequency: On occasion.

9. Total Estimated Annual Time Burden: 389 Burden Hours.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: July 2, 2025.
Darwin Arceo,
Department Clearance Officer for PRA, U.S. Department of Justice.

[FR Doc. 2025-12594 Filed 7-3-25; 8:45 am]

BILLING CODE 4410-ML-P